DEPARTMENT OF THE TREASURY

Agency Information Collection Activities; Submission for OMB Review; Comment Request; Request for Transfer of Property Seized/Forfeited by a Treasury Agency

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on this request.

DATES: Comments should be received on or before May 17, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Request for Transfer of Property Seized/Forfeited by a Treasury Agency.

OMB Control Number: 1505-0152.

Type of Review: Revision of a currently approved collection.

Description: As stated in the Department of the Treasury Guide to Equitable Sharing for Federal, State and Local Law Enforcement Agencies, after a seizure in a joint investigation the participating state, local or tribal law enforcement agency may request a share of the forfeited assets by submitting the Treasury Form TD F 92-22.46 to the investigative agency completing the forfeiture. The form is being updated to add fields to collect Title IV information required by the Department of the Treasury Civil Rights Office.

Form: TD F 92-22.46.

Affected Public: State, Local and Tribal Governments.

Estimated Number of Respondents: 7,000.

Frequency of Response: On occasion.

Estimated Total Number of Annual Responses: 7,000.

Estimated Time per Response: 30 minutes.

Estimated Total Annual Burden Hours: 3,500.

Authority: 44 U.S.C. 3501 et seq.

Dated: April 13, 2021.
Spencer W. Clark,
Treasury PRA Clearance Officer.

[FR Doc. 2021-07856 Filed 4-15-21; 8:45 am]

BILLING CODE 4810-AK-P